DEPARTMENT OF TRANSPORTATION

Federal Aviation Administration

14 CFR Part 71

[Docket No. FAA-2019-0328; Airspace Docket No. 18-ANM-5]

RIN 2120-AA66

Amendment of Class E Airspace; Rifle, CO

AGENCY: Federal Aviation Administration (FAA), DOT.

ACTION: Final rule.

SUMMARY: This action amends Class E airspace at Rifle Garfield County Airport, Rifle, CO. The action increases the circular radius of the Class E airspace, designated as a surface area, to the west and northwest of the airport. Also, this action amends the Class E airspace by adding an airspace area, designated as an extension to a Class D or Class E surface area, to the east of the airport. Additionally, this action amends the Class E airspace extending upward from 700 feet above the surface by increasing the radius of the airspace around most of the airport and reducing the radius to the north and northeast of the airport. This action also removes the extensions from this airspace area. Lastly, this action makes several administrative corrections to the airspace legal descriptions for the airport.

DATES: Effective 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class E airspace at Rifle Garfield County Airport, Rifle, CO, to ensure the safety and management of Instrument Flight Rules (IFR) operations at the airport.

History

The FAA published a notice of proposed rulemaking in the Federal Register (84 FR 69346; December 18, 2019) for Docket No. FAA-2019-0328 to amend Class E airspace at Rifle Garfield County Airport, Rifle, CO. Interested parties were invited to participate in this rulemaking effort by submitting written comments on the proposal to the FAA. No comments were received.

Class E2, E4, and E5 airspace designations are published in paragraph 6002, 6004 and 6005, respectively, of FAA Order 7400.11D, dated August 8, 2019, and effective September 15, 2019, which is incorporated by reference in 14 CFR 71.1. The Class E airspace designation listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71 amends Class E airspace at the Rifle Garfield County Airport, Rifle, CO. The action amends the Class E airspace, designated as a surface area, by increasing the circular radius in the west and northwest of the airport to contain IFR arrivals descending below 1,000 above the surface. The airspace is described as follows: That airspace extending upward from the surface within a 4.1-mile radius of the airport beginning at the 339° bearing from the airport, clockwise to the 243° bearing from the airport, thence along the 243° bearing to a 5.2-mile radius of the airport, clockwise to the 339° bearing from the airport, thence along 339° bearing back to the 4.1-mile radius of the Rifle Garfield County Airport.

Also, this action amends the Class E airspace by adding an area designated as an extension to Class D and Class E2 surface areas. This area is described as follows: That airspace extending upward from the surface within 1 mile north and 2.5 miles south of the 078° bearing from the airport, extending from the 4.1-mile radius to 8.5 miles east of the Rifle Garfield County Airport.

Additionally, this action amends the Class E airspace extending upward from 700 feet above the surface by increasing the radius of the airspace around the most of the airport and reducing it to the north and northwest of the airport. This action also removes the extensions from this airspace area. This area is described as follows: That airspace extending upward from 700 feet above the surface within a 5.5-mile radius of the airport beginning at the 336° bearing from the airport, clockwise to the 065° bearing from the airport, thence along the 065° bearing to an 11-mile radius of the airport, clockwise to the 336° bearing from the airport, thence along the 336° bearing back to the 5.5-mile radius of the Rifle Garfield County Airport.

Lastly, the action makes several administrative corrections to the airspace's legal description. The geographic coordinates are updated to lat. 39°31′36″ N, long. 107°43′41″ W to match the FAA's aeronautical database. The airport name is updated to “Rifle Garfield County Airport, Rifle, CO”, to match the FAA's aeronautical database. The Class E2 surface airspace is full time; the following two sentences do not accurately represent the time of use for the Class E2 airspace and are removed from the legal description: “This Class E airspace area is effective during specific dates and times established in advance by a Notice to Airmen. The effective date and time will thereafter be continuously published in the Airport/Facility Directory.”

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6002 Class E Airspace Areas Designated as a Surface Area.

* * * * *

ANM CO E2 Rifle, CO [Amended]

Rifle Garfield County Airport, Rifle, CO

(Lat. 39°31′36″ N, long. 107°43′41″ W)

That airspace extending upward from the surface within a 4.1-mile radius of airport beginning at the 339° bearing from the airport, clockwise to the 243° bearing from the airport, thence along the 243° bearing to a 5.2-mile radius of the airport, clockwise to the 339° bearing from the airport, thence along 339° bearing back to the 4.1-mile radius of the Rifle Garfield County Airport.

Paragraph 6004 Class E Airspace Areas Designated as an Extension to a Class D or Class E Surface Area.

* * * * *

ANM CO E4 Rifle, CO [New]

Rifle Garfield County Airport, Rifle, CO

(Lat. 39°31′36″ N, long. 107°43′41″ W)

That airspace extending upward from the surface within 1 mile north and 2.5 miles south of the 078° bearing from the airport extending from the 4.1-mile radius to 8.5 miles east of the Rifle Garfield County Airport.

Paragraph 6005 Class E Airspace Areas Extending Upward From 700 Feet or More Above the Surface of the Earth.

* * * * *

ANM CO E5 Rifle, CO [Amended]

Rifle Garfield County Airport, Rifle, CO

(Lat. 39°31′36″ N, long. 107°43′41″ W)

That airspace extending upward from 700 feet above the surface within a 5.5-mile radius of the airport beginning at the 336° bearing from the airport, clockwise to the 065° bearing from the airport, thence along the 065° bearing to an 11-mile radius of the airport, clockwise to the 336° bearing from the airport, thence along the 336° bearing back to the 5.5-mile radius of the Rifle Garfield County Airport.

Issued in Seattle, Washington, on February 26, 2020.
Shawn M. Kozica,
Group Manager, Western Service Center, Operations Support Group.

[FR Doc. 2020-04262 Filed 3-2-20; 8:45 am]

BILLING CODE 4910-13-P